DEPARTMENT OF ENERGY

Federal Energy Regulatory Commission

Notice of Revocation of Market-Based Rate Authority and Termination of Electric Market-Based Rate Tariff

| Docket Nos.
Data Collection for Analytics and Surveillance and Market-Based Rate Purposes | RM16-17-001
3C Solar LLC | ER11-2649-000
Apple Group | ER07-1287-001
Backyard Farms Energy LLC | ER09-1689-000
BITH Energy, Inc | ER13-48-000
BITH Solar 1, LLC | ER13-29-000
Bolt Energy, LLC | ER19-1826-001
Cirrus Wind 1, LLC | ER13-357-001
Conch Energy Trading, LLC | ER12-1472-000
Consolidated Power Co., LLC | ER14-1858-000
Covanta Maine, LLC | ER09-560-000
EBRFUEL, LLC | ER13-797-000
El Paso Marketing Company, L.L.C | ER95-428-000
Electron Hydro, LLC | ER13-1646-001
Energy Exchange Direct, LLC | ER08-425-000
Energy Exchange International, LLC | ER11-2730-000
EONY Generation Limited | ER00-136-000
Falcon Energy, LLC | ER09-1075-000
FC Energy Services Company, LLC | ER07-1247-002
FOREST INVESTMENT GROUP, LLC | ER05-1079-000
Full Circle Renewables, LLC | ER11-4536-000
GBC Metals LLC | ER11-2825-000
Gichi Noodin Wind Farm, LLC | ER20-2087-000
Global Energy, LLC | ER12-346-000
Hawkeye Energy Greenport, LLC | ER03-833-000
High Lonesome Mesa, LLC | ER09-712-000
Hill Energy Resource & Services, LLC | ER12-1613-001
KEPCO Solar of Alamosa LLC | ER11-4050-000
KODA Energy, LLC | ER09-107-000
Lazarus Energy Holdings, LLC | ER08-848-000
Light Power & Gas LLC | ER21-1768-000
Major Lending, LLC | ER05-744-000
Manifold Energy Inc | ER18-1549-000
Monterey Consulting Associates, Inc | ER11-4603-000
Myotis Power Marketing LLC | ER13-1249-002
NFI Solar, LLC | ER10-904-000
North Branch Resources, LLC | ER03-293-000
PACE RENEWABLE ENERGY 1 LLC | ER19-178-001
PGPV, LLC | ER12-1603-001
Piedmont Energy Fund, LP | ER13-1135-001
Power Choice Inc | ER10-812-000
RDAF Energy Solutions, LLC | ER16-895-002
Renaissance Power, L.L.C | ER01-3109-000
Renewable Power Direct, LLC | ER14-1135-000
Rigby Energy Resources, LP | ER14-166-000
RJUMR ENERGY PARTNERS CORP | ER14-2013-000
RLD Resources, LLC | ER12-1244-001
Silver Bear Power, LLC | ER13-733-000
Smith Creek Hydro, LLC | ER16-904-001
Southard Energy Partners, LLC | ER13-698-000
Southern California Telephone Company | ER11-3186-000
Spruance Genco, LLC | ER06-634-000
Sunbury Energy, LLC | ER13-113-002
Texzon Utilities, Ltd | ER03-1150-000
Thicksten Grimm Burgum, Inc | ER11-4604-000
Trane Grid Services LLC | ER13-1107-000
Tropicana Manufacturing Company Inc | ER11-2962-001
UBS AG | ER02-973-000
Viridity Energy, Inc | ER11-4706-001
Volunteer Energy Services, Inc | ER04-937-000
Western Aeon Energy Trading LLC | ER21-908-000
Western Reserve Energy Services, LLC | ER11-3263-000
White Pine Electric Power L.L.C | ER04-262-000
Windy Flats Partners, LLC | ER09-750-000
Woomera Energy, LLC | ER18-624-000
Z&Y Energy Trading LLC | ER18-2031-000

On September 22, 2022, the Commission issued an order announcing its intent to revoke the market-based rate authority of the sellers ¹ captioned above that had failed to file their baseline submissions to the market-based rate relational database,² as required by Order No. 860.³ The Commission directed those sellers to file the required baseline submissions within 15 days of the date of issuance of the September 22 Order or face revocation of their authority to sell power at market-based rates and termination of their electric market-based rate tariffs.⁴ On October 14, 2022, the above-captioned sellers were granted an extension of time to satisfy the Commission's requirements in Order No. 860, and the directives of the September 22 Order, up to and including October 21, 2022.⁵

¹ A “seller” is defined as any person that has authorization to or seeks authorization to engage in sales for resale of electric energy, capacity or ancillary services at market-based rates under section 205 of the Federal Power Act (FPA). 18 CFR 35.36(a)(1); 16 U.S.C. 824d. Each seller is a public utility under section 205 of the FPA. 16 U.S.C. 824.

² Data Collection for Analytics & Surveillance & Mkt.-Based Rate Purposes, 180 FERC ¶ 61,170 (2022) (September 22 Order).

³ Data Collection for Analytics & Surveillance & Mkt.-Based Rate Purposes, Order No. 860, 168 FERC ¶ 61,039 (2019), order on reh'g, Order No. 860-A, 170 FERC ¶ 61,129 (2020).

⁴ September 22 Order, 180 FERC ¶ 61,170 at Ordering Paragraph A.

⁵ Data Collection for Analytics & Surveillance & Mkt.-Based Rate Purposes, Notice of Extension of Time, Docket No. RM16-17-000 (Oct. 14, 2022) (October 14 Extension).

The time period for compliance with the September 22 Order and the October 14 Extension has elapsed. The above-captioned sellers failed to file their delinquent baseline submissions to the market-based rate relational database. The Commission hereby revokes, effective as of the date of issuance of this notice, the market-based rate authority and terminates the electric market-based rate tariff of each of the sellers who are named in the caption of this order. This revocation does not preclude the above-captioned sellers from re-applying for market-based rate authority.

Dated: November 21, 2022.
Kimberly D. Bose,
Secretary.

[FR Doc. 2022-25831 Filed 11-25-22; 8:45 am]

BILLING CODE 6717-01-P